GENERAL SERVICES ADMINISTRATION

41 CFR Parts 102-5, 102-36, 102-38, 102-39, 102-40, 102-41, and 102-42

[FMR Case 2024-01; Docket No. GSA-FMR-2024-0001; Sequence No. 1]

RIN 3090-AK79

Federal Management Regulation; Updating the FMR With Diversity, Equity, Inclusion, and Accessibility Language

AGENCY: Office of Government-wide Policy (OGP), General Services Administration (GSA).

ACTION: Final rule.

SUMMARY: GSA is issuing a final rule that makes technical amendments to the Federal Management Regulation (FMR) regarding gender neutrality. These technical amendments result in more inclusive language by replacing gender-specific pronouns (e.g., he, she, his, her) with non-gendered pronouns. GSA is also correcting minor grammatical and administrative errors in FMR parts 102-5 and 102-42. These changes are grammatical and technical in nature and do not result in added costs or associated policy changes.

DATES: This final rule is effective on October 21, 2024.

FOR FURTHER INFORMATION CONTACT: Mr. William Garrett, Director, Personal Property Policy Division, Office of Government-wide Policy, at 202-368-8163 or personalpropertypolicy@gsa.gov for clarification of content. For information pertaining to status or publication schedules, contact the Regulatory Secretariat Division at 202-501-4755 or GSARegSec@gsa.gov. Please cite “FMR Case 2024-01.”

SUPPLEMENTARY INFORMATION:

I. Background

Executive Order (E.O.) 13988, Preventing and Combating Discrimination on the Basis of Gender Identity or Sexual Orientation, dated January 20, 2021, establishes a policy “to prevent and combat discrimination on the basis of gender identity or sexual orientation, and to fully enforce Title VII and other laws that prohibit discrimination on the basis of gender identity or sexual orientation.” The Federal Government must be a model for diversity, equity, inclusion, and accessibility, where all employees are treated with dignity and respect. Therefore, GSA has undertaken a review of FMR parts 102-5 and 102-33 through 102-42.

Consistent with the American Psychological Association (APA) Style Guide, 7th Edition, Publication Manual Section 5.5 guidance on “Gender and Pronoun Usage”, GSA is replacing gender-specific pronouns, such as he, she, his, or her, with more inclusive and respectful terminology to all segments of society. Other terms that do not use gender-specific language, such as Administrator, Architect, employee, and purchaser, have also been used as appropriate.

II. Discussion of the Final Rule

A. Summary of Significant Changes

This final rule is technical in nature and does not significantly change any definition, operation, or interpretation of the FMR.

B. Expected Cost Impact to the Public

There is no expected cost impact to the public due to these technical changes to the FMR.

III. Executive Orders 12866, 13563, and 14094

Executive Order (E.O.) 12866 (Regulatory Planning and Review) directs agencies to assess all costs and benefits of available regulatory alternatives and, if regulation is necessary, to select regulatory approaches that maximize net benefits (including potential economic, environmental, public health and safety effects, distributive impacts, and equity). E.O. 13563 (Improving Regulation and Regulatory Review) emphasizes the importance of quantifying both costs and benefits, of reducing costs, of harmonizing rules, and of promoting flexibility. E.O. 14094 (Modernizing Regulatory Review) amends Section 3(f) of E.O. 12866 and supplements and reaffirms the principles, structures, and definitions governing contemporary regulatory review established in E.O. 12866 and E.O. 13563. The Office of Management and Budget's Office of Information and Regulatory Affairs (OIRA) has determined that this rule is not a significant regulatory action, and therefore, it was not reviewed under Section 6(b) of E.O. 12866.

IV. Congressional Review Act

OIRA has determined that this rule is not a “major rule” under 5 U.S.C. 804(2). Title II, Subtitle E of the Small Business Regulatory Enforcement Fairness Act of 1996 (codified at 5 U.S.C. 801-808), also known as the Congressional Review Act or CRA, generally provides that before a rule may take effect, unless excepted, the agency promulgating the rule must submit a rule report, which includes a copy of the rule, to each House of the Congress and to the Comptroller General of the United States. This rule is excepted from CRA reporting requirements prescribed under 5 U.S.C. 801 as it relates to agency management or personnel under 5 U.S.C. 804(3)(B).

V. Regulatory Flexibility Act

This final rule will not have a significant economic impact on a substantial number of small entities within the meaning of the Regulatory Flexibility Act, 5 U.S.C. 601, et seq. This final rule is also excepted from the Administrative Procedure Act pursuant to 5 U.S.C. 553(a)(2) because it applies to agency management or personnel. Therefore, an Initial Regulatory Flexibility Analysis was not performed.

VI. Paperwork Reduction Act

The Paperwork Reduction Act does not apply because the changes to the FMR do not impose recordkeeping or information collection requirements, or the collection of information from offerors, contractors, or members of the public that require the approval of the Office of Management and Budget (OMB) under 44 U.S.C. 3501, et seq.

List of Subjects in 41 CFR Parts 102-5, 102-36, 102-38, 102-39, 102-40, 102-41, and 102-42.

Home-to-work transportation, Excess and surplus Government property, Government property management.

Robin Carnahan,
Administrator of General Services.

For the reasons set forth in the preamble, GSA amends 41 CFR parts 102-5, 102-36, 102-38, 102-39, 102-40, 102-41, and 102-42 as set forth below:

PART 102-5—HOME-TO-WORK TRANSPORTATION

1. The authority citation for 41 CFR part 102-5 continues to read as follows:

Authority: 40 U.S.C. 121(c); 31 U.S.C. 1344(e)(1).

§ 102-5.30 [Amended]

2. Amend § 102-5.30 by—

a. In the definition of “field work”, removing from the first sentence the words “his/her regular” and adding the words “their regular” in its place;

b. In the definition of “home”, removing the words “his/her place of work ” and adding the words “their place of work” in its place;

c. In the definition “home-to-work”, removing the words “his/her home” and adding the words “their home” in its place; and

d. In the definition “work”, removing “his/her official” and adding “their official” in its place.

3. In § 102-5.35:

a. Revise the section heading; and;

b. Remove the phrase “authorized home-to-work” wherever it appears and add, in its place, the phrase “authorized for home-to-work”.

The revision reads as follows:

§ 102-5.35 Who is authorized for home-to-work transportation?

* * * * *

§ 102-5.70 [Amended]

4. Amend § 102-5.70 by removing from paragraph (a) “his/her work” and adding “their work” in its place.

5. Amend § 102-5.75 by—

a. Revising paragraph (b);

b. Removing from paragraph (c) the phrase “his/her official” and adding in its place the phrase “their official”; and

c. Revising the note to the section.

The revisions read as follows:

§ 102-5.75 What circumstances do not establish a basis for authorizing home-to-work transportation for field work?

* * * * *

(b) When the employee's workday begins at their work; or

* * * * *

Note to § 102-5.75: For instances where an employee is authorized for home-to-work transportation under the field work provision, but performs field work only on an intermittent basis, the agency shall establish procedures to ensure that a Government passenger carrier is used only when field work is actually being performed. Although some employees' daily workstation is not located in a Government office, these employees are not performing field work. Like all Government employees, employees working in a “field office” are responsible for their own commuting costs.

6. Amend § 102-5.90 by:

a. Revising the section heading; and

b. Removing from the phrase “the employee home-to-work” wherever it appears and adding in its place “home-to-work”.

The revision reads as follows:

§ 102-5.90 Should an agency consider whether to base a Government passenger carrier at a Government facility near the employee's home or work rather than authorize home-to-work transportation?

* * * * *

7. Amend § 102-5.105 by revising the first sentence to read as follows:

§ 102-5.105 May others accompany an employee using home-to-work transportation?

Yes, an employee authorized for home-to-work transportation may share space in a Government passenger carrier with other individuals, provided that the passenger carrier does not travel additional distances as a result and such sharing is consistent with the employee's Federal agency's policy. * * *

PART 102-36—DISPOSITION OF EXCESS PERSONAL PROPERTY

8. The authority citation for 41 CFR part 102-36 continues to read as follows:

Authority: 40 U.S.C. 121(c).

§ 102-36.5 [Amended]

9. Amend § 102-36.5 by removing the phrases “he deems” and “his functions” and adding the phrases “the Administrator deems” and “their functions” in their places, respectively.

§ 102-36.40 [Amended]

10. Amend § 102-36.40 by removing from the definition “Federal agency” the phrase “his/her direction” and adding the phrase “the Architect's direction” in its place.

§ 102-36.60 [Amended]

11. Amend § 102-36.60 by removing from paragraph (d) the phrase “his direction” and adding the phrase “the Architect's direction” in its place.

§ 102-36.115 [Amended]

12. Amend § 102-36.115 by removing from paragraph (a)(1) the phrase “he/she represents” and adding the phrase “they represent” in its place.

§ 102-36.155 [Amended]

13. Amend § 102-36.155 by removing from paragraph (d) the phrase “his obligations” and add the phrase “their obligations” in its place.

PART 102-38—SALE OF PERSONAL PROPERTY

14. The authority citation for 41 CFR part 102-38 continues to read as follows:

Authority: 40 U.S.C. 545 and 40 U.S.C. 121(c).

§ 102-38.110 [Amended]

15. Amend § 102-38.110 by removing the phrase “(or his/her designee)” and adding the phrase “(or designee)” in its place.

§ 102-38.195 [Amended]

16. Amend § 102-38.195 by removing the phrase “uses his/her own” and adding the phrase “does not use an authorized” in its place.

17. Amend § 102-38.240 by

a. Revising the section heading; and

b. In paragraph (b) removing the phrase “his/her bid” and adding the phrase “their bid”.

The revision reads as follows:

§ 102-38.240 What happens to the deposit bond if the bidder defaults or wants to withdraw their bid?

* * * * *

§ 102-38.255 [Amended]

18. Amend § 102-38.255 by removing from paragraph (a) the phrase “his/her bid” and adding the phrase “their bid” in its place.

§ 102-38.260 [Amended]

19. Amend § 102-38.260 by removing the words “his/her designee” and adding the word “designee” in its place.

PART 102-39—REPLACEMENT OF PERSONAL PROPERTY PURSUANT TO THE EXCHANGE/SALE AUTHORITY

20. The authority citation for 41 CFR part 102-39 continues to read as follows:

Authority: 40 U.S.C. 121(c); 40 U.S.C. 503.

§ 102-39.20 [Amended]

21. In § 102-39.20 amend the definition of “Federal agency” by removing the words “his/her direction” and adding, in their place, the words “the Architect's direction.”

PART 102-40—UTILIZATION AND DISPOSITION OF PERSONAL PROPERTY WITH SPECIAL HANDLING REQUIREMENTS

22. The authority citation for 41 CFR part 102-40 continues to read as follows:

Authority: 40 U.S.C. 121(c).

§ 102-40.135 [Amended]

23. In § 102-40.135 in paragraph (b) amend the certification paragraph by removing the words “he/she is” and adding in their place the words, “the purchaser is”.

§ 102-40.145 [Amended]

24. In § 102-40.145, paragraph (a) amend the certification by-

a. Removing from first paragraph the words “certifies that he/she” and adding in their place the words “certifies that they”; and

b. Removing from the second paragraph the words “he/she is licensed” and adding in their place the words “they are licensed”.

§ 102-40.160 [Amended]

25. Amend § 102-40.160 by:

a. In paragraph (c)(1), in the certification, removing the words “his/her bid” and adding in the place the words “their bid”; and

b. In paragraph (c)(2), in the certification, removing the words “he/she is” and adding in their place the words “they are”.

§ 102-40.165 [Amended]

26. Amend § 102-40.165 by:

a. In paragraph (d)(1), in the certification, removing the words “his/her bid” and adding in their place the words “their bid”;

b. In paragraph (d)(2):

i. In the introductory text, removing the words “his/her license” and adding in their place the words “the bidder's license”; and

c. In the certification removing the words “he/she is legally” and “his/her license” and adding their place the words “they are legally” and “the bidder's license”, respectively.

§ 102-40.170 [Amended]

27. In § 102-40.170 amend paragraph (g) by removing from certification the words “that he/she is” and adding in their place the words “that the purchaser or donee is”.

§ 102-40.190 [Amended]

28. In § 102-40.190 amend paragraph (b) by removing the words “his or her professional” and adding in their place the words “their professional”.

PART 102-41—DISPOSITION OF SEIZED, FORFEITED, VOLUNTARILY ABANDONED, AND UNCLAIMED PERSONAL PROPERTY

29. The authority citation for 41 CFR part 102-41 continues to read as follows:

Authority: 40 U.S.C. 121(c).

30. Amend § 102-41.135 by revising the section heading to read as follows:

§ 102-41.135 How much reimbursement do we pay the former owner when they file a claim for unclaimed personal property that we no longer have?

* * * * *

PART 102-42—UTILIZATION, DONATION, AND DISPOSAL OF FOREIGN GIFTS AND DECORATIONS

31. The authority citation for 41 CFR part 102-42 continues to read as follows:

Authority: 40 U.S.C. 121(c); sec. 515, 5 U.S.C. 7342 (91 Stat. 862).

§ 102-42.10 [Amended]

32. In § 102-42.10 amend definition of “Employee” in paragraph (7) by removing the words “his or her spouse are separated” and adding in their place the words “the individual's spouse are legally separated”.

§ 102-42.20 [Amended]

33. Amend § 102-42.20 by—

a. In paragraph (a) introductory text removing the words “he/she is not” and adding in their place the words “the employee is not”; and

b. In paragraphs (a)(1) and (b)(1) removing the words “his/her employing” and adding in their place the words “their employing”.

[FR Doc. 2024-18460 Filed 8-21-24; 8:45 am]

BILLING CODE 6820-14-P